DEPARTMENT OF THE INTERIOR

National Park Service

[NPS-WASO-NAGPRA-NPS0026717; PPWOCRADN0-PCU00RP14.R50000]

Notice of Inventory Completion: Kansas State Historical Society, Topeka, KS

AGENCY: National Park Service, Interior.

ACTION: Notice.

SUMMARY: The Kansas State Historical Society has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Kansas State Historical Society. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Kansas State Historical Society at the address in this notice by December 13, 2018.

ADDRESSES: Dr. Robert J. Hoard, Kansas State Historical Society, 6425 SW 6th Avenue, Topeka, KS 66615-1099, telephone 785-272-8681, Ext. 269, email Robert.hoard@ks.gov.

SUPPLEMENTARY INFORMATION: Notice is here given in accordance with the Native American Graves Protection and Repatriation Act (NAGPRA), 25 U.S.C. 3003, of the completion of an inventory of human remains under the control of the Kansas State Historical Society, Topeka, KS. The human remains were removed from Barber, Cowley, Marion, Rice, and Sumner Counties, KS.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Kansas State Historical Society professional staff in consultation with representatives of the Wichita and Affiliated Tribes (Wichita, Keechi, Waco, and Tawakonie), Oklahoma.

History and Description of the Remains

On or before 1985, human remains representing, at minimum, one individual were removed from portions of site 14BA401, the JJ Lemon Ranch site (UBS 2001-22) in Barber County, KS, by an artifact collector in Pratt, KS. In 2001, the collector showed his collection to Kansas State Historical Society staff, who identified and took possession of the human remains—cranial fragments, a mandible fragment with teeth, three vertebrae, and two fragments of a femur—all of which belong to a single, 45-55-year-old male. No known individuals were identified. No associated funerary objects are present.

The site is affiliated with the Middle Ceramic (ca. A.D. 1100-1400) Pratt complex based on diagnostic artifacts observed at the site. The Pratt complex material culture recovered from the site—charred corn cobs, small triangular Washita points, beveled knives, bison scapula hoes, other bone tools, and attributes of ceramic vessel sherds—is representative of the people who are ancestral to the Great Bend aspect and, ultimately, to the Wichita and Affiliated Tribes, as asserted by Brosowske and Bevitt in the volume Kansas Archaeology (Hoard and Banks 2006:180-205), as well as by others. Previously recovered human remains from this site were repatriated to the Wichita and Affiliated Tribes in 1999 (Federal Register March 12, 1999, vol. 64, no. 48, pp. 12349-12351).

In 1969, human remains representing, at minimum, one individual was removed from 14SR303, the Buresh site (UBS 2000-12) in Sumner County, KS. Kansas State Historical Society staff excavated the site to save information from the site before it was destroyed by collectors. A human occipital belonging to an adult was recovered from a large basin-shaped feature containing charcoal, tools, and other cultural debris. These human remains were not noted during the excavation, but were found only later, during analysis of the Kansas State Historical Society collections. No known individuals were identified. No associated funerary objects are present.

The site dates to ca. A.D. 1100. The material culture recovered from the site—charred corn cobs, small triangular Washita points, beveled knives, bison scapula hoes, other bone tools, and sherds from globular jars with decorated lips and rims—is consistent with the Washita focus, whose people are considered to be ancestral to the Great Bend aspect and, ultimately, to the Wichita and Affiliated Tribes, as asserted by Brosowske and Bevitt in the volume Kansas Archaeology (Hoard and Banks 2006:180-205), as well as by others.

In 1986, human remains representing, at minimum, one individual were removed from 14MN328, the Mem site (UBS 2001-26) in advance of highway construction. The collections from the site, including ceramic vessel sherds and side-notched arrow pints, are consistent with the Great Bend aspect. Subsequent analysis of collections from the investigations recovered a human deciduous incisor belonging to a single individual. No associated funerary objects are present.

The Great Bend aspect, ca. A.D. 1350-1700, is widely understood to be ancestral to the modern-day Wichita and Affiliated Tribes. This understanding is based on radiocarbon dates, geographic region, material culture, oral tradition, and historical documents such as the entradas of Coronado and Oñate in A.D. 1541 and 1601, respectively, as well as historical continuity into the nineteenth and twentieth centuries. This evidence is strongly asserted in Waldo Wedel's 1959 publication An Introduction to Kansas Archeology and in many subsequent archeological publications.

In 1977, human remains representing, at minimum, one individual were removed from 14RC2, the Major site (UBS 2001-32) in Rice County, KS. A private individual excavated a trash pit at the site, and subsequently donated the collection to the Kansas State Historical Society. The collections from the site, including ceramic vessel sherds and side-notched arrow pints, are consistent with the Great Bend aspect. The collection included a mandible fragment with four teeth, belonging to a single adult individual. No known individuals were identified. No associated funerary objects are present.

In 1977 and 1978, human remains representing, at minimum, one individual were removed from 14RC8, the Tobias site (UBS 2011-01) in Rice County, KS. Research excavations by the Kansas State Historical Society led to the collection of extensive amounts of cultural material with a clear affiliation to the ancestral Wichita Great Bend aspect. An adult human tooth was recovered from this collection in 2011. No known individuals were identified. No associated funerary objects are present.

In 2005, human remains representing, at minimum, two individuals were removed from 14RC410, the Little River site (UBS 2005-08) in Rice County, KS. Excavations in advance of the construction of a water treatment plant encountered a human burial. Because artifacts consistent with the Great Bend aspect were present at the site, the Wichita and Affiliated Tribes were contacted, and the burial was left in place. During subsequent analysis of the site collection, small, fragmentary remains belonging to two individuals were discovered. No known individuals were identified. No associated funerary objects are present.

Between 1994 and 1996, human remains representing, at minimum, one individual were removed from 14CO1, the Larcom-Haggard site (UBS 2015-08), in Cowley County, KS. Kansas State Historical Society staff excavated this Great Bend aspect site in advance of highway construction. Representatives of the Wichita and Affiliated Tribes were actively consulted during investigations. Subsequent analysis of the materials collected led to the discovery of a single human deciduous incisor. No known individuals were identified. No associated funerary objects are present.

Between 1994 and 1996, human remains representing, at minimum, one individual were removed from 14CO3, the County Club site (UBS 2006-05), in Cowley County, KS. Kansas State Historical Society staff excavated this Great Bend aspect site in advance of highway construction. Representatives of the Wichita and Affiliated Tribes were actively consulted during investigations. Subsequent analysis of the materials collected led to the discovery of a single human deciduous incisor. No known individuals were identified. No associated funerary objects are present.

Between 1994 and 1996, human remains representing, at minimum, one individual were removed from 14CO332, the Havelock site (UBS 2001-20), in Cowley County, KS. Kansas State Historical Society staff excavated this Great Bend aspect site in advance of highway construction. Representatives of the Wichita and Affiliated Tribes were actively consulted during investigations. Subsequent analysis of the materials collected led to the discovery of a single human deciduous incisor. No known individuals were identified. No associated funerary objects are present.

Determinations Made by the Kansas State Historical Society

Officials of the Kansas State Historical Society have determined that:

• Pursuant to 25 U.S.C. 3001(9), the human remains described in this notice represent the physical remains of 10 individuals of Native American ancestry.

• Pursuant to 25 U.S.C. 3001(2), there is a relationship of shared group identity that can be reasonably traced between the Native American human remains and the Wichita and Affiliated Tribes (Wichita, Keechi, Waco & Tawakonie), Oklahoma.

Additional Requestors and Disposition

Lineal descendants or representatives of any Indian Tribe or Native Hawaiian organization not identified in this notice that wish to request transfer of control of these human remains should submit a written request with information in support of the request to Dr. Robert J. Hoard, Kansas State Historical Society, 6425 SW 6th Avenue, Topeka, KS 66615-1099, telephone 785-272-8681, Ext. 269, email Robert.hoard@ks.gov, by December 13, 2018. After that date, if no additional requestors have come forward, transfer of control of the human remains to the Wichita and Affiliated Tribes (Wichita, Keechi, Waco & Tawakonie), Oklahoma may proceed.

The Kansas State Historical Society is responsible for notifying the Wichita and Affiliated Tribes (Wichita, Keechi, Waco & Tawakonie), Oklahoma that this notice has been published.

Dated: October 9, 2018.
Melanie O'Brien,
Manager, National NAGPRA Program.

[FR Doc. 2018-24663 Filed 11-9-18; 8:45 am]

BILLING CODE 4312-52-P